SMALL BUSINESS ADMINISTRATION

[Declaration of Disaster #3345]

State of West Virginia

As a result of the President's major disaster declaration on June 3, 2001, I find that Boone, Kanawha, Logan, Mercer, Raleigh and Wyoming Counties in the State of West Virginia constitute a disaster area due to damages caused by flooding, severe storms, and landslides beginning on May 15, 2001 and continuing. Applications for loans for physical damage as a result of this disaster may be filed until the close of business on August 2, 2001, and for loans for economic injury until the close of business on March 4, 2002 at the address listed below or other locally announced locations: U.S. Small Business Administration, Disaster Area 1 Office, 360 Rainbow Blvd., South, 3rd Floor, Niagara Falls, NY 14303.

In addition, applications for economic injury loans from small businesses located in the following contiguous counties in West Virginia may be filed until the specified date at the above location: Clay, Fayette, Jackson, Lincoln, McDowell, Mingo, Nicholas, Putnam, Roane, and Summers; and Bland, Giles, and Tazewell Counties in Virginia.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury
Businesses and Small Agricultural Cooperatives Without Credit Available Elsewhere | 4.000

The number assigned to this disaster for physical damage is 334506. For economic injury the numbers are 9L8200 for West Virginia, and 9L8300 for Virginia.

(Catalog of Federal Domestic Assistance Program Nos. 59002 and 59008)

Dated: June 5, 2001.
Herbert L. Mitchell,
Associate Administrator for Disaster Assistance.

[FR Doc. 01-14564 Filed 6-8-01; 8:45 am]

BILLING CODE 8025-01-P